DEPARTMENT OF ENERGY

Agency Information Collection Extension

AGENCY: Department of Energy.

ACTION: Submission for Office of Management and Budget (OMB) review; comment request.

SUMMARY: The Department of Energy (DOE) has submitted an information collection package to the OMB for extension under the provisions of the Paperwork Reduction Act of 1995. The package requests a three-year extension of its Contractor Legal Management Requirements, OMB Control Number 1910-5115. This information collection package covers information necessary to aid contractors and DOE personnel in making determinations regarding the reasonableness of all outside legal costs, including the costs of litigation.

DATES: Comments regarding this collection must be received on or before June 21, 2004. If you anticipate that you will be submitting comments, but find it difficult to do so within the period of time allowed by this notice, please advise the OMB Desk Officer of your intention to make a submission as soon as possible. The Desk Officer may be telephoned at 202-395-7345.

ADDRESSES: Written comments should be sent to:

DOE Desk Officer, Office of Information and Regulatory Affairs, Office of Management and Budget, New Executive Office Building, Room 10102, 735 17th Street, NW., Washington, DC 20503.

Comments should also be addressed to:

Lorretta D. Bryant, Acting Director, Records Management Division, IM-11/Germantown Bldg., Office of the Chief Information Officer, U.S. Department of Energy, 1000 Independence Ave., SW., Washington, DC 20585-1290; or by fax at (301) 903-9061, or by e-mail at lorretta.bryant@hq.doe.gov; and to

Anne Broker, GC-12, U.S. Department of Energy, Office of Dispute Resolution, 1000 Independence Avenue, SW., Washington, DC 20585; or by fax at (202) 586-0325, or by e-mail at anne.broker@hq.doe.gov.

FOR FURTHER INFORMATION CONTACT: Lorretta D. Bryant, Acting Director, Records Management Division, Office of the Chief Information Officer, U.S. Department of Energy, 1000 Independence Ave., SW., Washington, DC 20585-1290, (301)-903-2164, or e-mail lorretta.bryant@hq.doe.gov. Also notify Anne Broker, GC-12, U.S. Department of Energy, Office of Dispute Resolution, 1000 Independence Avenue, SW., Washington, DC 20585 or by e-mail at anne.broker@hq.doe.gov.

SUPPLEMENTARY INFORMATION: This package contains: (1) OMB No.: 1910-5115; (2) Package Title: Contractor Legal Management Requirements; (3) Purpose: The collection of this information continues to be necessary to provide a basis for DOE decisions on requests, from applicable contractors, for reimbursement of litigation and other legal expenses; (4) Estimated Number of Respondents: 33; (5) Estimated Total Burden Hours: The burden hours for this collection are estimated to be approximately 465 to 570 hours on an annual basis. This estimate is based on the estimate that the preparation of the initial plan is 15-30 hours and that no more than 20% of the 33 contractors will need to submit a legal management plan in any given year. The estimate for the total also includes an estimate of the approximately 10 hours for an annual budgetary update, which would be submitted by all contractors; (6) Number of Collections: The package contains 1 information and/or recordkeeping requirement.

Statutory Authority: These requirements are promulgated under authority in section 161 of the Atomic Energy Act of 1954, 42 U.S.C. 2201; the Department of Energy Organization Act, 42 U.S.C. 7101, et seq.; and the National Nuclear Security Administration Act, 50 U.S.C. 2401, et seq.

Issued in Washington, DC on May 14, 2004.
Lorretta D. Bryant,
Acting Director, Records Management Division, Office of the Chief Information Officer.

[FR Doc. 04-11522 Filed 5-20-04; 8:45 am]

BILLING CODE 6450-01-P